ENVIRONMENTAL PROTECTION AGENCY

[FRL-7661-6]

Draft Physical Stream Assessment: A Review of Selected Protocols for Use in the Clean Water Act Section 404 Program

AGENCY: Environmental Protection Agency (EPA); National Oceanic and Atmospheric Administration (NOAA), Commerce; U.S. Army Corps of Engineers (USACE), Defense; U.S. Fish and Wildlife Service (USFWS), Interior; Natural Resources Conservation Service (NRCS), Agriculture; Department of Transportation.

ACTION: Notice of availability to review and comment.

SUMMARY: In accordance with the National Mitigation Action Plan signed in December of 2002 by the Environmental Protection Agency, Department of Commerce, Department of Defense, Department of the Interior, Department of Agriculture, and Department of Transportation, the Federal Interagency Mitigation Workgroup (FIMW) commissioned the preparation of a technical resource document to assist with stream mitigation entitled: Physical Stream Assessment: A Review of Selected Protocols for use in the Clean Water Act (CWA) Section 404 Program (Stream Mitigation Compendium). The Stream Mitigation Compendium is intended as a reference that can be consulted by regulatory agencies, resource managers, and restoration ecologists in order to select, adapt, or devise stream assessment methods appropriate for impact assessment and mitigation of fluvial resources in the CWA Section 404 Program.

DATES: In order to be considered, comments must be postmarked or e-mailed on or before June 28, 2004.

ADDRESSES: Comments may be submitted electronically, by mail, or by hand delivery/courier. E-mail comments to mitigation@epa.gov. Please put “Stream Mitigation Compendium Comments” in the Subject Line and include your comments as an attachment to the email in either Word or Wordperfect format. Mail or hand deliver/courier comments to: Palmer Hough, U.S. Environmental Protection Agency, Wetlands Division (4502T), 1200 Pennsylvania Avenue, NW., Washington, DC 20460.

FOR FURTHER INFORMATION CONTACT: Mitigation Action Plan Web site at http://www.mitigationactionplan.gov or contact either Palmer Hough, U.S. Environmental Protection Agency, Wetlands Division (4502T), 1200 Pennsylvania Avenue, NW., Washington, DC 20460, phone: (202) 566-1374, e-mail: Hough.Palmer@epa.gov or Alan Miller, U.S. Army Corps of Engineers, 441 G Street, NW., Washington, DC 20314-1000, phone: (202) 761-7763, e-mail: Alan.J.Miller@hq02.usace.army.mil.

SUPPLEMENTARY INFORMATION: Reports published in 2001 by the National Academy of Sciences (NAS) and the General Accounting Office (GAO) provided a critical evaluation of the effectiveness of wetlands compensatory mitigation for authorized losses of wetlands and other waters under Section 404 of the CWA. Section 404 regulates discharges of dredged and fill materials into waters of the United States and requires compensatory mitigation for unavoidable impacts. The independent analyses and other commentaries highlighted a number of shortfalls and identified a variety of technical, programmatic, and policy recommendations for the Federal agencies, States, and other involved parties.

An interagency team drafted the National Mitigation Action Plan endorsing the goal of no net loss of wetlands and outlining specific action items that address the concerns of the NAS, GAO, and other independent evaluations. The 17 actions, with various agency leads, address areas of concern, including collection and availability of data, clarifying performance standards, improving accountability, and integrating mitigation into the watershed approach. Development of the Stream Mitigation Compendium is one of these action items. The FIMW is seeking public review before finalizing this document.

Please note that comments, including names and street addresses of respondents, are available for public review in a docket. Copies of the draft Stream Mitigation Compendium are available at the Mitigation Action Plan Web site at http://www.mitigationactionplan.gov (Click on “Status of Action Items” and locate and click on “Stream Mitigation Compendium” in the summary table). A printed copy of this document can be obtained by contacting: Palmer Hough, U.S. Environmental Protection Agency, Wetlands Division (4502T), 1200 Pennsylvania Avenue, NW., Washington, DC 20460.

Dated: May 10, 2004.
Benjamin H. Grumbles,
Acting Assistant Administrator for Water.

[FR Doc. 04-10982 Filed 5-13-04; 8:45 am]

BILLING CODE 6560-50-P